FEDERAL EMERGENCY MANAGEMENT AGENCY

44 CFR Part 65

[Docket No. FEMA-D-7523]

Changes in Flood Elevation Determinations

AGENCY: Federal Emergency Management Agency, FEMA.

ACTION: Interim rule.

SUMMARY: This interim rule lists communities where modification of the base (1% annual chance) flood elevations is appropriate because of new scientific or technical data. New flood insurance premium rates will be calculated from the modified base flood elevations for new buildings and their contents.

DATES: These modified base flood elevations are currently in effect on the dates listed in the table and revise the Flood Insurance Rate Map(s) (FIRMs) in effect prior to this determination for each listed community.

From the date of the second publication of these changes in a newspaper of local circulation, any person has ninety (90) days in which to request through the community that the Acting Executive Associate Director reconsider the changes. The modified elevations may be changed during the 90-day period.

ADDRESSES: The modified base flood elevations for each community are available for inspection at the office of the Chief Executive Officer of each community. The respective addresses are listed in the following table.

FOR FURTHER INFORMATION CONTACT: Matthew B. Miller, P.E., Chief, Hazards Study Branch, Federal Insurance and Mitigation Administration, Federal Emergency Management Agency, 500 C Street SW., Washington, DC 20472, (202) 646-3461, or (email) matt.miller@fema.gov.

SUPPLEMENTARY INFORMATION: The modified base flood elevations are not listed for each community in this interim rule. However, the address of the Chief Executive Officer of the community where the modified base flood elevation determinations are available for inspection is provided.

Any request for reconsideration must be based upon knowledge of changed conditions, or upon new scientific or technical data.

The modifications are made pursuant to section 201 of the Flood Disaster Protection Act of 1973, 42 U.S.C. 4105, and are in accordance with the National Flood Insurance Act of 1968, 42 U.S.C. 4001 et seq., and with 44 CFR part 65.

For rating purposes, the currently effective community number is shown and must be used for all new policies and renewals.

The modified base flood elevations are the basis for the floodplain management measures that the community is required to either adopt or to show evidence of being already in effect in order to qualify or to remain qualified for participation in the National Flood Insurance Program (NFIP).

These modified elevations, together with the floodplain management criteria required by 44 CFR 60.3, are the minimum that are required. They should not be construed to mean that the community must change any existing ordinances that are more stringent in their floodplain management requirements. The community may at any time enact stricter requirements of its own, or pursuant to policies established by other Federal, state or regional entities.

The changes in base flood elevations are in accordance with 44 CFR 65.4.

National Environmental Policy Act. This rule is categorically excluded from the requirements of 44 CFR part 10, Environmental Consideration. No environmental impact assessment has been prepared.

Regulatory Flexibility Act. The Acting Executive Associate Director, Mitigation Directorate, certifies that this rule is exempt from the requirements of the Regulatory Flexibility Act because modified base flood elevations are required by the Flood Disaster Protection Act of 1973, 42 U.S.C. 4105, and are required to maintain community eligibility in the National Flood Insurance Program. No regulatory flexibility analysis has been prepared.

Regulatory Classification. This interim rule is not a significant regulatory action under the criteria of Section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This rule meets the applicable standards of Section 2(b)(2) of Executive Order 12778.

List of Subjects in 44 CFR Part 65

Flood insurance, Floodplains, Reporting and recordkeeping requirements.

Accordingly, 44 CFR Part 65 is amended as follows:

PART 65—[AMENDED]

1. The authority citation for Part 65 continues to read as follows:

Authority: 42 U.S.C. 4001 et seq.; Reorganization Plan No. 3 of 1978, 3 CFR, 1978 Comp., p. 329; E.O. 12127, 44 FR 19367, 3 CFR, 1979 Comp., p. 376.

§ 65.4 [Amended]

2. The tables published under the authority of § 65.4 are amended as follows:

State and county | Location | Dates and name of newspaper where notice was published | Chief executive officer of community | Effective date of modification | Community No.
Connecticut: Fairfield | Town of Greenwich | February 11, 2002, February 18, 2002, Greenwich Times | Mr. Richard Bergstresser, First Selectman for the Town of Greenwich, 101 Field Point Road, Greenwich, Connecticut 06830 | Feb. 4, 2002 | 090008 C
Delaware: New Castle | Unincorporated Areas | March 25, 2002, April 1, 2002, The News Journal | Mr. Thomas P. Gordon, New Castle County Executive, New Castle County Government Center, 87 Reads Way, New Castle, Delaware 19720 | July 1, 2002 | 105085 D
Illinois: Kane | City of Geneva | March 6, 2002, March 13, 2002, Kane County Chronicle | The Honorable Kevin Burns, Mayor of the City of Geneva, 22 South First Street, Geneva, Illinois 60134 | June 12, 2002 | 170325 B
Indiana:
DeKalb | Unincorporated Areas | February 26, 2002, The Evening Star | Ms. Connie Miles, President of the County Commissioners, 100 South Main Street, Auburn, Indiana | Mar. 28, 2002 | 18044 B
Hamilton | Town of Westifeld | April 12, 2002, April 19, 2002, The Daily Ledger | Mr. Michael McDonald, Town of Westfield Council President, 130 Penn Street, Westfield, Indiana 46074 | July 19, 2002 | 180083 C
Maryland:
Montgomery | City of Rockville | March 6, 2002, March 13, 2002, Rockville Gazette | The Honorable Larry Giammo, Mayor of the City of Rockville, Rockville City Hall, 111 Maryland Avenue, Rockville, Maryland 28050 | Feb. 22, 2002 | 200051 B
Howard | Unincorporated Areas | December 13, 2001, December 20, 2001, The Howard County Times | Mr. James N. Robey, Howard County Executive, 3430 Courthouse Drive, Ellicott City, Maryland 21043 | Nov. 28, 2001 | 240044 B
New York: Queensbury | Town of Queensbury | February 13, 2002, February 20, 2002, The Post-Star | Mr. Dennis Brower, Supervisor for the Town of Queensbury, 742 Bay Road, Queensbury, New York 12804 | Aug. 6, 2002 | 360879 B
Ohio: Hamilton | Unincorporated Areas | April 12, 2002, April 19, 2002, The Cincinnati Enquirer | Mr. David J. Krings, Hamilton County Administrator, 138 East Court Street, Room 603, Cincinnati, Ohio 45202 | April 4, 2002 | 390204 B
Pennsylvania:
Chester | Township of East Bradford | April 25, 2002, May 2, 2002, Daily Local News | Mr. John T. Jordan, Chairman of the Township of East Bradford Board of Supervisors, 666 Copeland School Road, West Chester, Pennsylvania 19380 | August 1, 2002 | 420276 D
Bucks | Township of Hilltown | April 23, 2002, The Intelligencer | Mr. Ken Bennington, Chairman of the Township of Hilltown Board of Supervisors, 13 West Creamery Road, Hilltown, Pennsylvania 18297 | May 24, 2002 | 420189 D
Lehigh | Township of Salisbury | March 11, 2002, March 18, 2002, Morning Call | Mr. Gabriel Khalife, Manager of the Township of Salisbury, 2900 South Pike Avenue, Allentown, Pennsylvania 18103 | June 17, 2002 | 450591 D
Chester | Township of Willistown | April 17, 2002, April 24, 2002, Daily Local News | Mr. Robert T. Lang, Chairman of the Township of Willistown Board of Supervisors, 688 Sugartown Road, Malvern, Pennsylvania 19335 | April 1, 2002 | 422282 D
Puerto Rico | Commonwealth | November 16, 2001, November 23, 2001, The San Juan Star | The Honorable Sila Maria Calderon, Governor of the Commonwealth of Puerto Rico, Office of the Governor, P.O. Box 9020082, San Juan, Puerto Rico 00901 | Nov. 7, 2002 | 720000 E
Virginia:
Prince William | Unincorporated Areas | April 19, 2002, April 26, 2002, Potomac News | Mr. Craig Gerhart, Prince William County Executive, 1 County Complex Court, Prince William, Virginia 22192 | April 3, 2002 | 510119 D
Prince William | Unincorporated Areas | February 7, 2002, February 14, 2002, Potomac News | Mr. Craig Gerhart, Prince William County Executive, 1 County Complex Court, Prince William, Virginia 22192 | May 16, 2002 | 510119 D
Fauquier | Town of Warrenton | March 21, 2002, March 28, 2002, Fauquier Citizen | Mr. John Anzivino, Warrenton Town Manager, Municipal Building, 18 Court Street, Warrenton, Virginia 20186 | Mar. 5, 2002 | 510057 B

(Catalog of Federal Domestic Assistance No. 83.100, “Flood Insurance.”)

Dated: May 15, 2002.
Robert F. Shea,
Acting Administrator, Federal Insurance and Mitigation Administration.

[FR Doc. 02-12656 Filed 5-20-02; 8:45 am]

BILLING CODE 6718-04-P